DEPARTMENT OF HOMELAND SECURITY

Coast Guard

[Docket No. USCG-2013-0273]

Chemical Transportation Advisory Committee

AGENCY: Coast Guard, DHS.

ACTION: Committee Management; Notice of Federal Advisory Committee Meeting.

SUMMARY: The Chemical Transportation Advisory Committee (CTAC) and its Subcommittees and Working Groups will meet on May 7 through 9, 2013, in Arlington, VA, to discuss marine transportation of hazardous materials. The meetings will be open to the public.

DATES: CTAC MARPOL, Liquified Gases, Biofuels, and Vapor Control System Subcommittees will meet Tuesday, May 7, 2013, from 8 a.m. to 3 p.m. and Wednesday, May 8, 2013, from 8 a.m. to 3 p.m. The full CTAC committee will meet Thursday, May 9, 2013, from 8 a.m. to 3 p.m. Please note that the meetings may close early if the committee has completed its business.

All written materials, comments, and requests to make oral presentations at the meeting should reach Lieutenant Sean Peterson, Assistant Designated Federal Officer (ADFO) for CTAC by May 3, 2013. For contact information please see the FOR FURTHER INFORMATION CONTACT section below. Any written material submitted by the public will be distributed to the Committee and become part of the public record.

ADDRESSES: The meetings will be held at the U.S. Coast Guard Recruiting Command Training Room, 2300 Wilson Boulevard Suite 500, Arlington, VA. Attendees will be required to pre-register to be admitted to the building. Please provide name, telephone number, and company by close of business on May 3, 2013, to the contact person listed in FOR FURTHER INFORMATION CONTACT below. Attendees will be required to provide a picture identification card in order to gain admittance to the building.

For information on facilities or services for individuals with disabilities or to request special assistance at the meeting, contact Commander Michael Roldan as soon as possible.

To facilitate public participation, we are inviting public comment on the issues to be considered by the committee as listed in the “Agenda” section below. Comments must be submitted in writing no later than May 3, 2013, and may be submitted by one of the following methods:

• Federal eRulemaking Portal: http://www.regulations.gov. (Preferred method to avoid delays in processing.)

• Fax: 202-493-2252.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: This notice, and documents or comments related to it, may be viewed in our online docket, USCG 2013-XXXX at http://www.regulations.gov.

A public comment period will be held during the meeting concerning matters being discussed. Public comments will be limited to three minutes per speaker. Please note that the public comment period may end before the time indicated following the last call for comments. Contact the individuals listed below to register as a speaker.

FOR FURTHER INFORMATION CONTACT: Commander Michael Roldan, Designated Federal Officer (DFO) of the CTAC, or Lieutenant Sean Peterson, Assistant Designated Federal Officer, telephone 202-372-1403, fax 202-372-1926. If you have any questions on viewing or submitting material to the docket, call Barbara Hairston, Program Manager, Docket Operations, telephone 202-366-9826.

SUPPLEMENTARY INFORMATION: Notice of this meeting is given under the Federal Advisory Committee Act (FACA), 5 U.S.C. App. (Pub. L. 92-463).

CTAC is an advisory committee authorized under section 871 of the Homeland Security Act of 2002, Title 6, United States Code, section 451, and chartered under the provisions of the FACA. The Committee acts solely in an advisory capacity to the Secretary of the Department of Homeland Security (DHS) through the Commandant of the Coast Guard and the Deputy Commandant for Operations on matters relating to marine transportation of hazardous materials. The Committee advises, consults with, and makes recommendations reflecting its independent judgment to the Secretary.

Agendas of Meetings

Subcommittees Meetings on May 7 and 8. Subcommittees and working groups will meet to address the items of interest listed in paragraph (2) of the agenda for the May 9 meeting and the tasks given at the last CTAC meeting and located at Homeport at the following address: https://homeport.uscg.mil, then go to: Missions > Ports and Waterways > Safety Advisory Committees > CTAC Subcommittees and Working Groups.

The agenda for each working group formed will include the following:

(1) Review task statements which can be found at Homeport at the following address: https://homeport.uscg.mil, then go to: Missions > Ports and Waterways > Safety Advisory Committees > CTAC > Subcommittees and Working Groups

(2) Work on tasks assigned in task statements mentioned above.

(3) Develop presentation for CTAC meeting on May 9.

The agenda for the CTAC meeting on May 9 is as follows:

1. Introductions and opening remarks.

2. Subcommittee presentations on the following items of interest:

a. U.S. Implementation of the International Code for the Construction and Equipment of Ships Carrying Dangerous Chemicals in Bulk Code and International Convention for the Prevention of Pollution from Ships (MARPOL) Annex II

b. Requirements for Third-Party Surveyors of MARPOL Annex II Inspections

c. Improving implementation and education of MARPOL discharge requirements

d. Harmonization of response and carriage requirements for Biofuels and Biofuel blends

e. Recommendations on Safety Standards for the Design of Vessels Carrying Natural Gas or Using Natural Gas as Fuel

f. Recommendations for Safety Standards of Portable Facility Vapor Control Systems Used for Marine Operations

3. USCG presentations on the following items of interest:

a. MARPOL Annex V Ship Best Practices and Facility Reception of Hazardous Solid Bulk Residue

b. Update on International Maritime Organization as it relates to the marine transportation of hazardous materials

c. Update on U.S. Regulations as it relates to the marine transportation of hazardous materials

d. Update on Bulk Chemical Data Guide (Blue Book)

e. Vessel to vessel transfer of hazardous materials in bulk

4. Public Comment Period.

5. Set next meeting date and location.

6. Set Subcommittee and Working Group Meeting schedule.

Dated: April 17, 2013.
J.G. Lantz,
Director of Commercial Regulations and Standards.

[FR Doc. 2013-09519 Filed 4-19-13; 8:45 am]

BILLING CODE 9110-04-P